DEPARTMENT OF TRANSPORTATION

Federal Aviation Administration

14 CFR Part 71

[Docket No. FAA-2013-0081; Airspace Docket No. 12-AEA-5]

RIN 2120-AA66

Establishment of Area Navigation (RNAV) Routes; Washington, DC

AGENCY: Federal Aviation Administration (FAA), DOT.

ACTION: Final rule; correction.

SUMMARY: This action corrects a final rule published by the FAA in the Federal Register on May 21, 2013, that establishes five RNAV routes in support of the Washington, DC, Optimization of Airspace and Procedures in a Metroplex project. This correction changes the name of one waypoint (WP) in the legal descriptions of RNAV routes T-291 and T-295.

DATES: Effective date 0901 UTC, August 22, 2013. The Director of the Federal Register approves this incorporation by reference action under 1 CFR part 51, subject to the annual revision of FAA Order 7400.9 and publication of conforming amendments.

FOR FURTHER INFORMATION CONTACT: Paul Gallant, Airspace Policy and ATC Procedures Group, Office of Airspace Services, Federal Aviation Administration, 800 Independence Avenue SW., Washington, DC 20591; telephone: (202) 267-8783.

SUPPLEMENTARY INFORMATION:

Background

On May 21, 2013, the FAA published a final rule in the Federal Register establishing five RNAV routes in the Washington, DC area (78 FR 29615). Subsequent to publication, it was determined that the name of the MORTY, MD WP (which is common to the legal descriptions of RNAV routes T-291 and T-295) needs to be changed due to its proximity to a similar sounding and spelled fix, MORTO. Potential safety concerns were identified due to the possibility for confusion of the points in radio communications and onboard Flight Management System data entry. To resolve this concern, the FAA is changing the name “MORTY, MD” to “BAABS, MD” in the descriptions of T-291 and T-295. This is a name change only. The latitude/longitude coordinates remain the same.

Area Navigation Routes are published in paragraph 6011 of FAA Order 7400.9W, dated August 8, 2012, and effective September 15, 2012, which is incorporated by reference in 14 CFR 71.1. The RNAV routes listed in this document will be published subsequently in the Order.

Correction to Final Rule

Accordingly, pursuant to the authority delegated to me, the name “MORTY, MD WP” as published in the Federal Register on May 21, 2013 (78 FR 29615; FR Doc. 2013-11969) for RNAV routes T-291 and T-295, is corrected under the descriptions as follows:

Paragraph 6011—United States Area Navigation Routes

* * * * *

T-291 [Corrected]

On page 29616, line 36, Remove “MORTY, MD WP (Lat. 39°19′51″ N., long. 076°24′41″ W.)” and insert “BAABS, MD WP (Lat. 39°19′51″ N., long. 076°24′41″ W.)”

T-295 [Corrected]

On page 29616. Line 40, Remove “MORTY, MD WP (Lat. 39°19′51″ N., long. 076°24′41″ W.)” and insert “BAABS, MD WP (Lat. 39°19′51″ N., long. 076°24′41″ W.)”

Issued in Washington, DC, on June 13, 2013.
Gary A. Norek,
Manager, Airspace Policy and ATC Procedures Group.

[FR Doc. 2013-14658 Filed 6-19-13; 8:45 am]

BILLING CODE 4910-13-P